DEPARTMENT OF COMMERCE

International Trade Administration

[A-588-604]

Tapered Roller Bearings and Parts Thereof, Finished and Unfinished, From Japan; Rescission of Antidumping Duty Administrative Review

AGENCY: Import Administration, International Trade Administration, Department of Commerce.

ACTION: Notice of rescission of antidumping duty administrative review.

SUMMARY: In response to an October 30, 2000 request made by NTN Corporation (NTN), a manufacturer/exporter of tapered roller bearings (TRBs) and parts thereof, finished and unfinished, from Japan, on November 30, 2000, the Department of Commerce (the Department) published the initiation of an administrative review of the antidumping duty order on TRBs and parts thereof, finished and unfinished, from Japan, covering the period October 1, 1999 through December 31, 1999 (65 FR 71299). This review has now been rescinded as a result of the timely withdrawal by NTN of its request for review.

EFFECTIVE DATE: February 28, 2001.

FOR FURTHER INFORMATION CONTACT: Deborah Scott or Robert James, AD/CVD Enforcement, Group III, Import Administration, International Trade Administration, U.S. Department of Commerce, 14th Street and Constitution Avenue, NW, Washington, DC 20230; telephone: (202) 482-2657 or (202) 482-0649, respectively.

Applicable Statute and Regulations: Unless otherwise indicated, all citations to the Tariff Act of 1930, as amended (the Tariff Act) are references to the provisions effective January 1, 1995, the effective date of the amendments made to the Tariff Act by the Uruguay Round Agreements Act. In addition, unless otherwise indicated, all citations to the Department's regulations are to 19 CFR part 351 (April 1, 2000).

SUPPLEMENTARY INFORMATION:

Background

On October 6, 1987, the Department published the antidumping duty order on TRBs and parts thereof, finished and unfinished, from Japan (A-588-604) (52 FR 37352). On October 30, 2000, NTN, a manufacturer/exporter of TRBs from Japan, requested an administrative review of the antidumping duty order on TRBs for the period October 1, 1999 through December 31, 1999. In accordance with 19 CFR 351.221(c)(1)(i), we published the initiation of the review on November 30, 2000 (65 FR 71299). On December 8, 2000, NTN withdrew its request for review.

Rescission of Review

The Department's regulations, at 19 CFR 351.213(d)(1), provide that the Department will rescind an administrative review if a party that requested a review withdraws the request within 90 days of the date of publication of the notice of initiation of the requested review. NTN withdrew its request for an administrative review on December 8, 2000, which is within the 90-day deadline. No other party requested a review of NTN's sales. Therefore, the Department is rescinding this administrative review with respect to NTN.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

We are issuing and publishing this notice in accordance with sections 751(a)(1) and 777(i)(1) of the Tariff Act. Effective January 20, 2001, Bernard T. Carreau is fulfilling the duties of the Assistant Secretary for Import Administration.

Dated: January 31, 2001.
Bernard T. Carreau,
Deputy Assistant Secretary, AD/CVD Enforcement II.

[FR Doc. 01-4897 Filed 2-27-01; 8:45 am]

BILLING CODE 3510-DS-P